DEPARTMENT OF LABOR

Occupational Safety and Health Administration

[Docket No. OSHA-2024-0005]

National Advisory Committee on Occupational Safety and Health (NACOSH); Charter Renewal; Correction

AGENCY: Occupational Safety and Health Administration (OSHA), Labor.

ACTION: Notice of NACOSH charter renewal; correction.

SUMMARY: OSHA is issuing a correction to the expiration date of the renewed NACOSH charter.

FOR FURTHER INFORMATION CONTACT:

For press inquiries: Mr. Frank Meilinger, Director, OSHA Office of Communications, U.S. Department of Labor; telephone: (202) 693-1999; email: meilinger.francis2@dol.gov.

For general information: Ms. Lisa Long, Acting Deputy Director, Directorate of Standards and Guidance, OSHA, U.S. Department of Labor; telephone: (202) 693-2049; email: long.lisa@dol.gov.

SUPPLEMENTARY INFORMATION:

1. Correction

On September 12, 2024, OSHA published a notice announcing the renewal of the NACOSH charter (89 FR 74295). That notice incorrectly stated that the renewed charter will expire on September 4, 2026. This notice is to correct the expiration date. The renewed NACOSH charter will expire September 16, 2026, two years from its filing date.

Authority and Signature: James S. Frederick, Deputy Assistant Secretary of Labor for Occupational Safety and Health, authorized the preparation of this notice under the authority granted by 29 U.S.C. 656; 5 U.S.C. 10; 29 CFR part 1912a; 41 CFR part 102-3; and Secretary of Labor's Order No. 8-2020 (85 FR 58393, Sept. 18, 2020).

Signed at Washington, DC.
James S. Frederick,
Deputy Assistant Secretary of Labor for Occupational Safety and Health.

[FR Doc. 2024-21766 Filed 9-23-24; 8:45 am]

BILLING CODE 4510-26-P